DEPARTMENT OF ENERGY

Federal Energy Regulatory Commission

[Docket Nos. CP06-71-000, CP06-72-000 and CP06-73-000]

Carolina Gas Transmission Corporation, SCG Pipeline, Inc., South Carolina Pipeline Corporation; Notice of Joint Application and Offer of Settlement

March 3, 2006.

Take notice that on February 28, 2006, SCG Pipeline, Inc. (SCG) and South Carolina Pipeline Corporation (SCPC), for themselves and on behalf of Carolina Gas Transmission Corporation (Carolina Gas) (collectively applicants), 1426 Main Street, Columbia, South Carolina 29201, filed a Joint Application and Offer of Settlement. The applicants request under section 7 of the Natural Gas Act certain Certificates of Public Convenience and Necessity authorizing facilities acquisition and operation, approval for the provision of interstate natural gas transportation services, approval of an abandonment, and related blanket certificates. The applicants request that the Commission grant these approvals and certificates no later than July 31, 2006, so that Carolina Gas can commence operations as an interstate pipeline subject to the Commission's jurisdiction in time for the 2006-2007 winter season.

These filings are on file with Commission and open to public inspection. They may be viewed on the Web at http://www.ferc.gov using the “eLibrary” link. Enter the docket number excluding the last three digits in the docket number field to access the document. There is also an “eSubscription” link on the Web site that enables subscribers to receive e-mail notification when a document is added to a subscribed docket(s). For assistance, please contact FERC Online Support at FERCOnlineSupport@ferc.gov or toll free at (866) 208-3676, or TTY, contact (202) 502-8659.

Any questions regarding the applications and Offer of Settlement should be directed to Ryan C. Leahy, Manager of Transportation Services, South Carolina Pipeline Corporation, 105 New Way Road, Columbia, SC 29223, Phone: (803) 217-7377.

The applicants are requesting certificates and other authorizations necessary to permit: (1) The merger of SCG into SCPC to form a single, integrated interstate pipeline, subject to Commission jurisdiction [Carolina Gas]; (2) the operation of such interstate pipeline by Carolina Gas, the entity to be formed as a result of the merger; (3) the provision of jurisdictional services by Carolina Gas pursuant to the initial rates and FERC Gas Tariff proposed in the settlement and applications; and (4) the abandonment, by merger, of SCG's FERC-certificated facilities and the cancellation of SCG's FERC Gas Tariff, and any other authorizations granted to SCG by the Commission. The applicants also request that the Commission grant Carolina Gas a blanket certificate authorizing Carolina Gas to transport gas on behalf of others pursuant to subpart G, section 284.221 of the Commission's regulations; and a blanket certificate authorizing certain construction and operation of facilities and abandonment under NGA section 7 pursuant to subpart F, sections 157.201-218 of the Commission's regulations.

Importantly, pursuant to sections 385.207(a)(5) and 385.602, the applicants also include an Offer of Settlement for the Commission's acceptance of a Stipulation and Agreement, which is a negotiated resolution of the matters arising in connection with the applicants' requests for certificate and abandonment authority. The applicants say that the terms and conditions of the settlement are the product of substantial inter-customer negotiation and compromise, as well as negotiation and compromise between the applicants and their customers. They say that the settlement reflects an overall balancing of the various competing interests among customers and among applicants and the various customer constituencies.

Docket No. CP06-71-000 is assigned to the requests to authorize facilities acquisition and operation, for approval for the provision of interstate natural gas transportation services, for approval of abandonment by SCG Pipeline, Inc. Docket No. CP06-72-000 is assigned to the part 157, subpart F blanket certificate request and Docket No. CP06-73-000 is assigned to the part 284, subpart G blanket certificate request. The Offer of Settlement encompasses and is related to all three dockets.

The applicants say that upon Commission approval of the authorizations they request, SCG, currently an interstate pipeline regulated by the FERC, will merge into SCPC, currently a non-FERC jurisdictional intrastate pipeline. SCPC intrastate services will end on the merger effective date. SCPC will relinquish its Hinshaw exemption, become subject to the Commission's jurisdiction over interstate pipelines, and change its name to Carolina Gas Transmission Corporation. Following the merger, the resulting entity, Carolina Gas, will own and operate all of the facilities that were owned and operated by SCG and SCPC at the time of the merger.

The applicants says that the resulting Carolina Gas pipeline will be a reticulated web-like system providing open access, unbundled, firm and interruptible transportation services and interruptible parking and lending service for interstate gas markets. Carolina Gas will transport gas supplies received from the Southern Natural Gas Company and Transcontinental Gas Pipe Line Corporation pipelines, which access various gas supply regions including the Gulf Coast, north Louisiana and north Texas, as well as LNG supplied at Elba Island, Georgia. They say that the Carolina Gas system will increase natural gas supply diversity and competition in and beyond the southeastern United States and provide much needed interstate infrastructure without the delay, uncertainty and environmental disturbances inherent in a new construction project.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Comments, interventions and protests to the applications must be filed on or before the comment date.

Also in this proceeding, initial comments to the Offer of Settlement must be filed on or before the comment date, and reply comments on the Offer of Settlement, if desired, must be filed on or before the reply comment date. Anyone filing an initial or reply comments on the settlement, motions to intervene or protests must serve a copy of those documents on the applicants. However, on or before the reply comment date, it is not necessary to serve comments, motions to intervene or protests on persons other than the applicants.

The Commission encourages electronic submission of comments, protests and interventions in lieu of paper using the “eFiling” link at http://www.ferc.gov. Persons unable to file electronically should submit an original and 14 copies of the comments, protest or intervention to the Federal Energy Regulatory Commission, 888 First Street, NE., Washington, DC 20426.

Comment Date: March 31, 2006.

Reply Comment Date: April 10, 2006.

Magalie R. Salas,
Secretary.

[FR Doc. E6-3446 Filed 3-9-06; 8:45 am]

BILLING CODE 6717-01-P